DEPARTMENT OF THE INTERIOR

National Park Service

Final Supplemental Environmental Impact Statement; General Management Plan Amendment for Visitor Learning Center; Great Basin National Park, White Pine County, NV; Notice of Availability

Summary: Pursuant to § 102(2)(c) of the National Environmental Policy Act of 1969 (Pub. L. 91-190, as amended), the National Park Service, Department of the Interior, has prepared and distributed a supplemental environmental impact statement (SEIS) for a proposed amendment of the General Management Plan (which was approved in 1993). The SEIS assesses the potential impacts of a proposal to construct a Visitor Learning Center in the townsite of Baker, Nevada (rather than on National Park Service park lands north of Baker, known locally as Baker Ridge). This conservation planning and environmental impact analysis effort identified and analyzed three alternatives (and foreseeable environmental consequences and appropriate mitigation strategies) for constructing the park's new Visitor Learning Center.

Proposal and Alternatives: The Final SEIS identifies and analyzes three alternatives, including “no action” (to document existing conditions and provide an environmental baseline for comparing “action” alternatives). The No Action Alternative (Alternative 1) assumes that the Baker Ridge location for the Visitor Learning Center would remain unchanged, thus implementing the existing General Management Plan (GMP). The Proposed Action (Alternative 2) amends the GMP to allow the construction to occur outside of the main park area within the townsite of Baker, Nevada. The approximately 7,000 ft² facilities identified are consistent with the concepts approved in the GMP. The Third Alternative (Alternative 3) amends the GMP to eliminate the Baker Ridge Visitor Learning Center and to maintain the current Lehman Caves Visitor Center as the only orientation facility.

Public Involvement: Notice of initiation of the conservation planning and environmental impact analysis process was published in the Federal Register on December 2, 1999; and information regarding the proposal was mailed to the park's GMP mailing list, and press release was distributed to local and regional media. A notice of availability of the Draft SEIS was published in the Federal Register on April 19, 2002; and on April 21, 2002 local announcements were published in the Ely Times. Copies of the document were distributed by direct mailings, posting in public libraries, and through electronic media. Copies were provided to Federal, state, and local agencies, interested organizations, and private individuals. Several scoping and consultation meetings were conducted throughout; fewer than a dozen written comments were received from these combined phases. Several letters of support were received. All substantive comments on the Draft SEIS, and specific responses, are included in the Final SEIS. Besides editorial revisions, changes from the Draft SEIS made in the Final SEIS were derived from clarifications prompted by comments received as a result of the 60 day comment period, as follows:

The U.S. Environmental Protection Agency raised two concerns. First centered upon “Greening the Government” opportunities (Executive Order 13101 “Greening the Government Through Waste Prevention, Recycling, and Federal Acquisition”; Executive Order 13123 “Greening the Government Through Efficient Energy Management”; and, Executive Order 13148 “Greening the Government Through Leadership in Environmental Management”). Details on the park's compliance with these Federal “greening the government” policies are included in section 3.0 (p. 29) of the Final SEIS. The second concern was in regards to exclusion of water quality (including permitting under section 402 and 404 of the Clean Water Act) as a impact issue topic. Further information to address this concern has been included in section 1.8 (pp. 18-19) of the Final SEIS.

The Nevada Health Division requested further information on the potential for the construction of new water and sewage treat facilities. Clarifications and new information regarding this element of the proposed action has been included in section 3.0 (pp. 29 and 35) of the Final SEIS.

Printed or CD-ROM copies of the Final SEIS may be obtained upon request to the Park Superintendent, Great Basin National Park, Baker, Nevada, 89311. The telephone number for the park is (775) 234-7331. In addition the document may be obtained via the Internet at http://www.nps.gov/grba.

If individuals responding to release of the Final SEIS request that their name or/and address be withheld from public disclosure, it will be honored to the extent allowable by law. Such requests must be stated prominently in the beginning of the comments. There may also be circumstances wherein the NPS will withhold a respondent's identity as allowable by law. As always: NPS will make available to public inspection all submissions from organizations and businesses; and, anonymous comments may not be considered.

Decision Process: The Proposed Alternative would amend the General Management Plan to allow the placement of a Visitor Learning Center outside of the main park area, on an administrative site located within the Baker townsite. A Record of Decision may be executed no sooner than 30 (thirty) days after publication of EPA's notice of filing of this Final SEIS in the Federal Register. As a delegated EIS, the official with responsibility for approving the Final SEIS is the Regional Director, Pacific West Region; subsequently the official responsible for implementation is the Superintendent, Great Basin National Park.

Dated: February 3, 2003.
Arthur E. Eck,
Deputy Regional Director, Pacific West Region.

[FR Doc. 03-8495 Filed 4-7-03; 8:45 am]

BILLING CODE 4310-70-P